DEPARTMENT OF ENERGY

Federal Energy Regulatory Commission

[Project No. 1951-119]

Georgia Power Company; Notice of Availability of Environmental Assessment

February 16, 2005.

In accordance with the National Environmental Policy Act of 1969, as amended, and the Federal Energy Regulatory Commission's (Commission) regulations (18 CFR part 380), Commission staff have prepared an environmental assessment (EA) that analyzes the environmental impacts of allowing Georgia Power Company, licensee for the Sinclair Hydroelectric Project (FERC No. 1951), to amend the existing project boundary. The current project boundary at the 350-foot elevation contour would be moved to the 343-foot elevation contour or 25 feet as measured from the reservoir's full pool elevation, whichever is greater. The purpose of this boundary amendment is to remove 3,650 acres of primarily residential lands from the project boundary, which the licensee identifies as being neither for, nor related to, project purposes. Areas necessary for project purposes, such as the project works and recreation sites, would be exempt from the proposed boundary change and remain within the project boundary.

A copy of the EA is attached to a Commission order titled “Order Approving Change in Project Boundary,” which was issued on February 15, 2005, and is available for review and reproduction at the Commission's Public Reference Room, located at 888 First Street, NE., Room 2A, Washington, DC 20426. The EA may also be viewed on the Commission(s website at http://www.ferc.gov using the “elibrary” link. Enter the docket number (prefaced by P-) and excluding the last three digits, in the docket number field to access the document. For assistance, contact FERC Online Support at FERCOnlineSupport@ferc.gov or toll-free at (866) 208-3676, or for TTY, contact (202) 502-8659.

Magalie R. Salas,
Secretary.

[FR Doc. E5-704 Filed 2-22-05; 8:45 am]

BILLING CODE 6717-01-P